DEPARTMENT OF HEALTH AND HUMAN SERVICES

Office of the Secretary

[Document Identifier: OS-0990-New; 60-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection.

Title of Information Collection: Evaluation of Approaches to Preventing Adolescent Sexual Risk Behaviors.

Form/OMB No.: 0990-NEW.

Use: The Evaluation of Approaches to Preventing Adolescent Sexual Risk Behaviors incorporates parallel evaluations of two different approaches to preventing adolescent sexual risk behavior with the overall goal of estimating the effects of abstinence education and comprehensive sex education delivered as part of middle school curricula.

The proposed study will be longitudinal; annual surveys will be administered to a cohort of sixth grade students from sixth grade through high school (or age eighteen for those who drop out of school or fail to graduate). These surveys will focus on measuring behavioral changes—non-sexual risk or precursor behaviors for younger teens and sexual behaviors for older teens, including premarital sexual activity, incidence of sexually transmitted diseases; and incidence of pregnancies and births. The surveys will also include age-appropriate questions about attitudes and intentions. Interviews will also be conducted with school health directors concerning health initiatives and issues in the sampled schools. This request is for the baseline and first follow-up instruments.

Frequency: Annual.

Affected Public: Individual.

Annual Number of Respondents: 3,027.

Total Annual Responses: 8,257.

Average Burden per Response: 46.93 minutes.

Total Annual Hours: 6,459.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received with 60-days, and directed to the OS Paperwork Clearance Officer at the following address:

Department of Health and Human Services, Office of the Secretary, Assistant Secretary for Research and Technology, Office of Resource Management, Attention: Sherrette Funn-Coleman (0990-NEW), Room 537-H, 200 Independence Avenue, SW., Washington, DC 20201.

Dated: January 31, 2007.
Alice Bettencourt,
Office of the Secretary, Paperwork Reduction Act Reports Clearance Officer.

[FR Doc. E7-2120 Filed 2-7-07; 8:45 am]

BILLING CODE 4151-05-P